DEPARTMENT OF DEFENSE

Office of the Secretary

Proposed Collection; Comment Request

AGENCY: Department of Defense, Defense Security Service.

ACTION: The Department of Defense has submitted to OMB for clearance the following proposal for collection of information under the provisions of the Paperwork Reduction Act (44 U.S.C. chapter 35).

DATES: Consideration will be given to all comments received by 5/15/2004.

ADDRESSES: Written comments and recommendations on the proposed information collection should be sent to the Defense Security Service.

FOR FURTHER INFORMATION CONTACT: To request more information on this proposed information collection or to obtain a copy of the proposal and associated collection instruments, please write to the above address, or call the Defense Security Service at (703) 325-6182.

Title, Associated Forms, and OMB Number: Defense Security Service FL 14-a, Medical Information Questionnaire, July 2003, OMB No. 0704-0206

Needs and Uses: The specific objective of a personnel security investigation is to elicit information concerning the loyalty, character, and reliability of the individual being investigated so that the DoD adjudicator may determine if it is clearly consistent with the interests of national security to grant the individual access to classified information (or to continue such access), or to place the individual (or retain them) in a sensitive national security position. Adjudicative determinations are made in accordance with DoD 5200.2-R, “DoD Personnel Security Program,” which requires the DoD adjudicator to consider both potentially disqualifying information and mitigating information when there is an indication that the individual has a history of mental or nervous disorder; use or abuse of prescribed or illegal drugs, such as marijuana, narcotics or barbiturates; or abuse or excessive use of alcohol. Much of the appropriate information which the adjudicator must consider can only be obtained from physicians who have treated the individual. Obtaining such information provides the adjudicator with a complex picture of the individual. Without it, the adjudicator may not be able to make a determination as to whether or not the individual should be granted access to classified information.

Affected Public: Individuals, business, or households.

Annual Burden Respondents: 11,700.

Number of Burden Hours: 7,020.

Number of Respondents: 11,700.

Responses Per Respondent: 1.

Average Burden Per Response: 0.6 hours.

Frequency: On occasion.

SUPPLEMENTARY INFORMATION:

Summary of Information Collection

See “Needs and Uses”.

Dated: March 4, 2004.
L.M. Bynum,
Alternate OSD Federal Register Liaison Officer, Department of Defense.

[FR Doc. 04-5459 Filed 3-10-04; 8:45 am]

BILLING CODE 5001-01-M